DEPARTMENT OF TRANSPORTATION

Federal Aviation Administration

14 CFR Part 39

[Docket No. 99-CE-48-AD]

RIN 2120-AA64

Airworthiness Directives; Short Brothers & Harland Ltd. Models SC-7 Series 2 and SC-7 Series 3 Airplanes

AGENCY: Federal Aviation Administration, DOT.

ACTION: Proposed rule; withdrawal.

SUMMARY: This document withdraws a notice of proposed rulemaking (NPRM) that would have applied to all Short Brothers & Harland Ltd. (Shorts) Models SC-7 Series 2 and SC-7 Series 3 airplanes. The proposed AD would have required you to revise the Airplane Flight Manual (AFM) to include requirements for activation of the airframe pneumatic deicing boots. The proposed AD was the result of reports of in-flight incidents and an accident (on airplanes other than the referenced Shorts airplanes) that occurred in icing conditions where the airframe pneumatic deicing boots were not activated. Since issuing this NPRM, we have found that all of the affected airplanes incorporate a freezing point fluid system. These airplanes do not have pneumatic deicing boots. Therefore, we have determined that the unsafe condition defined in the NPRM does not exist on these airplanes and we are withdrawing the NPRM.

ADDRESSES: You may look at information related to this action at the Federal Aviation Administration (FAA), Central Region, Office of the Regional Counsel, Attention: Rules Docket No. 99-CE-48-AD, 901 Locust, Room 506, Kansas City, Missouri 64106, between 8 a.m. and 4 p.m., Monday through Friday, except holidays.

FOR FURTHER INFORMATION CONTACT: Mr. Larry E. Werth, Airworthiness Directive Coordinator, FAA, Small Airplane Directorate, 901 Locust, Room 301, Kansas City, Missouri 64106; telephone: (816) 329-4147; facsimile: (816) 329-4090.

SUPPLEMENTARY INFORMATION:

Discussion

What action has FAA taken to date? We issued a proposal to amend part 39 of the Federal Aviation Regulations (14 CFR part 39) to include an AD that would apply to all Shorts Models SC-7 Series 2 and SC-7 Series 3 airplanes that are equipped with pneumatic deicing boots. The proposal was published in the Federal Register as an NPRM on October 12, 1999 (64 FR 55197). The NPRM proposed to require revising the Limitations Section of the AFM to include requirements for activation of pneumatic deicing boots at the first sign of ice accumulation on the airplane.

Was the public invited to comment? The FAA invited interested persons to participate in the making of this amendment. We did not receive any comments on the proposed rule.

What additional information has FAA found? The FAA has found that all of the affected airplanes incorporate a freezing point fluid system. These airplanes do not have deice boots. Therefore, FAA has determined that the unsafe condition defined in the NPRM does not exist on these airplanes.

The FAA's Determination

What is FAA's final determination on this issue? Based on the above information, we have determined that there is no need for the NPRM, Docket No. 99-CE-48-AD, and that we should withdraw it.

Withdrawal of this NPRM does not prevent us from issuing another notice in the future, nor will it commit us to any course of action in the future.

Regulatory Impact

Does this AD involve a significant rule or regulatory action? Since this action only withdraws a proposed AD, it is not an AD and, therefore, is not covered under Executive Order 12866, the Regulatory Flexibility Act, or DOT Regulatory Policies and Procedures (44 FR 11034, February 26, 1979).

List of Subjects in 14 CFR Part 39

Air transportation, Aircraft, Aviation safety, Safety.

The Withdrawal

Accordingly, FAA withdraws the notice of proposed rulemaking, Docket No. 99-CE-48-AD, published in the Federal Register on October 12, 1999 (64 FR 55197).

Issued in Kansas City, Missouri, on August 23, 2000.
Marvin R. Nuss,
Acting Manager, Small Airplane Directorate, Aircraft Certification Service.

[FR Doc. 00-22125 Filed 8-29-00; 8:45 am]

BILLING CODE 4910-13-P